DEPARTMENT OF LABOR

Employment and Training Administration

[TA-W-54,629]

Motorola, Inc., Information Technology Semiconductor Products Sector Tempe, Arizona; Notice of Negative Determination on Reconsideration

On July 22, 2004, the Department of Labor issued a Notice of Affirmative Determination Regarding Application for Reconsideration for the workers and former workers of the subject firm. The Notice of determination was published in the Federal Register on August 4, 2004 (69 FR 47182).

The Department issued the initial denial for Trade Adjustment Assistance (TAA) because the investigation revealed that workers provided software and systems design, development, implementation and maintenance in support of hundreds of Semiconductor Products Sector's global automated manufacturing and business applications. The investigation also revealed that maintenance and development functions were shifting to India and that Semiconductor Products Sector (SPS) revenue increased during the relevant time period.

Service workers could be certified for TAA if they directly support an affiliated facility whose workers independently qualify for TAA or are determined to be TAA certifiable.

The petitioners allege in the request for reconsideration that the subject company's semiconductor sales decreased, that semiconductor production was shifted to Taiwan, and that software development functions were shifted to India.

On reconsideration, the Department investigated whether the subject company's semiconductor sales decreased during the relevant time periods (2002, 2003, January-March 2003 and January-March 2004). A review of the additional information revealed increased sales in the Semiconductor Product Sector during the investigation period.

Under Section 113 of the Trade Adjustment Assistance Reform Act of 2002 (Pub. L 107-210), workers who are laid off as a result of a shift in production to a country that is party to a free trade agreement with the United States, or a country that is named as a beneficiary under the Andean Trade Preference Act, the African Growth and Opportunity Act or the Caribbean Basin Economic Recovery Act, may be qualified for TAA certification.

Taiwan is not party to a free trade agreement with the United States or named as a beneficiary under any of the above referenced Acts. Therefore, even if the petitioner's allegation was true, a production shift to Taiwan absent increased imports by the subject company of like or directly competitive products, is not a basis for TAA certification. Further, the TAA program does not recognized the shift of service functions abroad as a basis for certification.

Conclusion

After reconsideration, I affirm the original notice of negative determination of eligibility to apply for worker adjustment assistance for workers and former workers of Motorola, Inc., Information Technology, Semiconductor Products Sector, Tempe, Arizona.

Signed at Washington, DC, this 20th day of August 2004.
Elliott S. Kushner,
Certifying Officer, Division of Trade Adjustment Assistance.

[FR Doc. 04-19674 Filed 8-27-04; 8:45 am]

BILLING CODE 4510-30-P